DEPARTMENT OF HOMELAND SECURITY

Federal Emergency Management Agency

44 CFR Part 67

[Docket No. FEMA-B-1013]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 21, 2009.

ADDRESSES: The corresponding preliminary Flood Insurance Rate Map (FIRM) for the proposed BFEs for each community are available for inspection at the community's map repository. The respective addresses are listed in the table below.

You may submit comments, identified by Docket No. FEMA-B-1013, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | *Elevation in feet (NGVD) + Elevation in feet (NAVD) # Depth in feet above ground: Effective | *Elevation in feet (NGVD) + Elevation in feet (NAVD) # Depth in feet above ground: Modified | Communities affected
Graves County, Kentucky, and Incorporated Areas
Camp Creek | Approximately 2,000 feet upstream KY-348 | None | +352 | Graves County.
| Approximately 800 feet upstream Railroad | None | +370
Kess Creek | At Paris Road | None | +456 | Graves County, City of Mayfield.
| Approximately 750 downstream of South 10th Street | None | +470
Obion Creek | Approximately 2,100 feet downstream Railroad (West County Boundary) | None | +378 | Graves County.
| At US-45 | None | +410
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Mayfield
Maps are available for inspection at 211 East Broadway, Mayfield, KY 42066.
Graves County
Maps are available for inspection at 101 East South Street, Mayfield, KY 42066.
Cocke County, Tennessee, and Incorporated Areas
Clear Creek | Approximately 2.2 miles upstream of the confluence of French Broad River | None | +1030 | Unincorporated Areas of Cocke County.
| Approximately 927 feet upstream of the confluence of French Broad River | +1029 | +1030
French Broad River/Douglas Lake | Approximately 4.7 miles downstream of U.S. Highway 25 E | None | +1002 | Unincorporated Areas of Cocke County.
| Approximately 1.5 miles upstream of the confluence of Pigeon River | +1016 | +1014
Haney Branch | At the confluence of French Broad River | None | +1010 | Unincorporated Areas of Cocke County.
| Approximately 1,290 feet upstream of Wynn Way | None | +1010
McCowan Creek | At the confluence of French Broad River | None | +1002 | Unincorporated Areas of Cocke County.
| Approximately 1.1 miles upstream of the confluence of French Broad River | None | +1002
Nolichucky River | Approximately 1.2 miles upstream of Hale Road | None | +1022 | Unincorporated Areas of Cocke County.
| Approximately 1.1 miles upstream of Glendale Road | None | +1044
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Cocke County
Maps are available for inspection at Cocke County Courthouse, 111 Court Avenue, Rm 112, Newport, TN 37821.
Buffalo County, Wisconsin, and Incorporated Areas
Buffalo River | Approximately 7,700 feet downstream of the Eau Claire Street bridge | None | +777 | Unincorporated Areas of Buffalo County.
| Approximately 7,000 feet downstream of the Eau Claire Street bridge | None | +777
Mississippi River | Approximately 4.8 miles downstream of State Highway 54 | +658 | +657 | City of Alma, City of Buffalo, City of Fountain City, Unincorporated Areas of Buffalo County, Village of Cochrane, Village of Nelson.
| Approximately 2.1 miles upstream of State Highway 25 | +681 | +680
Peeso Creek | Approximately 3,400 feet upstream of the Washington Street Bridge | None | +822 | Unincorporated Areas of Buffalo County.
| Approximately 4,200 feet upstream of the Washington Street Bridge | None | +825
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Alma
Maps are available for inspection at City Hall, 314 North Main Street, Alma, WI 54610.
City of Buffalo
Maps are available for inspection at Municipal Building, 245 East 10th Street, Buffalo City, WI 54622.
City of Fountain City
Maps are available for inspection at City Hall, 42 North Main Street, Fountain City, WI 54629.
Unincorporated Areas of Buffalo County
Maps are available for inspection at Buffalo County Courthouse, 407 South 2nd Street, Alma, WI 54610.
Village of Cochrane
Maps are available for inspection at Village Hall, 102 East 5th Street, Cochrane, WI 54622.
Village of Nelson
Maps are available for inspection at Village Hall, 105 South Main Street, Nelson, WI 54756.

(Catalog of Federal Domestic Assistance No. 97.022, “Flood Insurance.”)

Dated: October 10, 2008.
Michael K. Buckley,
Acting Assistant Administrator, Mitigation Directorate, Department of Homeland Security, Federal Emergency Management Agency.

[FR Doc. E8-25264 Filed 10-22-08; 8:45 am]

BILLING CODE 9110-12-P